DEPARTMENT OF HEALTH AND HUMAN SERVICES

Centers for Disease Control and Prevention

[30Day-06-05AY]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-4766 or send an e-mail to omb@cdc.gov. Send written comments to CDC Desk Officer, Office of Management and Budget, Washington, DC or by fax to (202) 395-6974. Written comments should be received within 30 days of this notice.

Proposed Project

Economic Evaluation Of Walking Behavior In Sedentary Adults Age 50 Years And Older—New—National Center for Chronic Disease Prevention and Health Promotion (NCCDPHP), Centers for Disease Control and Prevention (CDC).

Background and Brief Description

The CDC is requesting approval of a pilot test to better understand the barriers to increased physical activity and the potential impact of modest financial incentives to promote walking among sedentary adults aged 50 years and older. The Behavioral Risk Factor Surveillance System (BRFSS) data reveal that Americans in general and older adults in particular do not meet minimum recommendations for levels of physical activity. Moderate increases in physical activity would decrease the incidence of diseases promoted by inactivity, including several types of cancer, diabetes, and heart disease. However, strategies that effectively motivate sedentary people to increase and maintain levels of regular physical activity have yet to be identified. CDC proposes to use this effort to investigate the impact of one type of intervention (financial incentives) on levels of physical activity.

CDC will conduct a stated preference (SP) survey to identify the barriers to leisure time physical activity and the size of the incentives necessary to overcome these barriers among sedentary adults age 50 and older. A pilot test of the impact of specific amounts of financial incentives on levels of walking among this population will also be conducted via a reveled preference (RP) pedometer experiment in the Raleigh, North Carolina, metropolitan area.

The SP survey will be a one-time effort in which respondents belonging to an online survey panel will complete a computer survey over the Internet. In the RP portion of the project, a local sample of respondents will complete an identical survey on paper. The RP respondents will also wear a pedometer for 4 weeks and record the number of steps walked in a diary. Data will be collected from the diaries and from the 7-day history in each pedometer unit. Respondents will receive a modest incentive payment for the number of steps they walk above a predetermined floor and below a predetermined ceiling.

The results of the survey will be used to gauge the size of the incentives necessary to motivate behavior change in a real world setting. The results of the pilot test will provide initial evidence of the magnitude of the incentives necessary to increase levels of physical activity among a specific sample of older adults. The total costs and effectiveness (changes in physical activity) can then be compared to similar data emanating from other interventions designed to increase levels of physical activity. Statistical analysis of the SP survey and RP data will be used. Since neither form of data collection is based on a random sample, conclusions will be preliminary and not generalizable. The analysis will be used to evaluate whether further comprehensive research on this subject should be undertaken. There are no costs to the respondents other than their time. The total estimated annualized burden hours are 1058.

Estimated Annualized Burden Hours:

Respondents | Form/activity | Number of respondents | Number of responses per respondent | Average burden per response (in hours)
SP survey participants | SP survey (online) | 500 | 1 | 25/60
RP survey participants | Informed consent | 300 | 1 | 5/60
| Initial meeting | 300 | 1 | 1
| SP survey (paper) | 300 | 1 | 25/60
| Daily steps diary | 300 | 4 | 20/60

Dated: February 9, 2006.
Betsey Dunaway,
Acting Reports Clearance Officer, Centers for Disease Control and Prevention.

[FR Doc. E6-2208 Filed 2-15-06; 8:45 am]

BILLING CODE 4163-18-P